FEDERAL RESERVE SYSTEM

Change in Bank Control Notices, Acquisition of Shares of Bank or Bank Holding Companies; Correction

This notice corrects a notice (FR Doc. E6-12011) published on page 42642 of the issue for Thursday, July 27, 2006.

Under the Federal Reserve Bank of Richmond heading, the entry for Richrd Jarrell, Freda Jarrell, Carol Jarrell, Robert Jarrell, and Robin Jarrell, all of Whitesville, West Virginia, is revised to read as follows:

A. Federal Reserve Bank of Richmond (A. Linwood Gill, III, Vice President) 701 East Byrd Street, Richmond, Virginia 23261-4528:

1. Richard Jarrell, Freda Jarrell, Carol Jarrell, Robert Jarrell, and Robin Jarrell, all of Whitesville, West Virginia; as a group acting in concert to retain voting shares of Big Coal River Bancorp, Inc., Whitesville, West Virginia, and thereby indirectly retain voting shares of Whitesville State Bank, Whitesville, West Virginia.

Comments on this application must be received by September 1, 2006.

Board of Governors of the Federal Reserve System, August 17, 2006.
Robert deV. Frierson,
Deputy Secretary of the Board.

[FR Doc. E6-13892 Filed 8-21-06; 8:45 am]

BILLING CODE 6210-01-S